DEPARTMENT OF HEALTH AND HUMAN SERVICES

Centers for Disease Control and Prevention

[60Day-06-06BF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessment and Evaluation of the Role of Care Coordination (Case Management) in Improving Access and Care within the Spina Bifida Clinic System—New—National Center on Birth Defects and Developmental Disabilities (NCBDDD), Centers for Disease Control and Prevention (CDC).

Background and Brief Description

Spina bifida is one of the most common birth defects, affecting approximately 2 per 10,000 live births in the United States annually. Providing care for people who are born with spina bifida is complex and challenging. Studies have shown that care coordination is beneficial for individuals with complex health conditions such as cystic fibrosis and sickle cell anemia. However, the extent to which care coordination is effective for assisting individuals with spina bifida is currently unknown. To learn more about what factors may help or act as barriers to the provision of effective care coordination for individuals with spina bifida, CDC's National Center on Birth Defects and Developmental Disabilities proposes to conduct a study using focus groups and interviews. The proposed activity is part of the National Spina Bifida Program mandated in Section 317C of the Public Health Service Act (42 U.S.C. 247b-4)

Researchers will visit 10 spina bifida clinics nationwide. At each clinic, 1 focus group with approximately 8 caregivers of children with spina bifida will be conducted. Each focus group will last about 2 hours. At each clinic, approximately 5 clinical staff will be interviewed; each interview will take approximately 45 minutes. Focus group and interview respondents will be asked a variety of questions related to care coordination for individuals with spina bifida including how care is coordinated in the clinic, barriers and facilitators to the provision of care coordination, the effectiveness of care coordination, and recommendations for improving care coordination. All responses to the focus groups and interviews will be treated in a private manner.

There will be no costs to the respondents other than their time.

Estimated Annualized Burden Hours
Respondents | Number of respondents | Number of reponses per respondent | Average burden per response | Total burden hours
Caregiver screener | 100 | 1 | 15/60 | 25
Caregiver focus group | 80 | 1 | 2 | 160
Clinic staff telephone screener | 55 | 1 | 10/60 | 9
Clinic staff interview | 50 | 1 | 45/60 | 38
Total |  |  |  | 232

Dated: May 10, 2006.
Joan F. Karr,
Acting Reports Clearance Officer, Centers for Disease Control and Prevention.

[FR Doc. E6-7482 Filed 5-16-06; 8:45 am]

BILLING CODE 4163-18-P